DEPARTMENT OF AGRICULTURE

Agricultural Marketing Service

[Docket # AMS-FV-07-0036; FV-06-318-C]

United States Standards for Grades of Pineapples

AGENCY: Agricultural Marketing Service, USDA.

ACTION: Final notice; correction.

SUMMARY: A notice was published in the Federal Register (73 FR 7245-7246) dated February 7, 2008, revising the United States Standards for Grades of Pineapples, issued under the Agricultural Marketing Act of 1946 (7 U.S.C. 1621-1627) effective March 10, 2008. However, in section 51.1489, Application of Tolerances, the words “packages” and “containers” were incorrectly listed. The correct words should have been “samples” and “sample.” This document corrects the standards by revising this section.

EFFECTIVE DATE: May 2, 2008.

FOR FURTHER INFORMATION CONTACT: Vincent J. Fusaro, Standardization Section, Fresh Products Branch, Fruit and Vegetable Programs, Agricultural Marketing Service, U.S. Department of Agriculture, 1400 Independence Ave., SW., Room 1661, South Building, Stop 0240, Washington, DC 20250-0240, Fax (202) 720-8871, Phone (202) 720-2185, or E-mail Vinny.Fusaro@usda.gov.

SUPPLEMENTARY INFORMATION: This document provides correcting amendments to the United States Standards for Grades of Pineapples, which is available at the address cited in the FOR FURTHER INFORMATION CONTACT section or by accessing the AMS, Fresh Products Branch Web site at: http://www.ams.usda.gov/standards/stanfrfv.htm. Accordingly, the United States Standards for Grades of Pineapples is corrected by changing section 51.1489, Application of Tolerance as follows: “The contents of individual samples in the lot, are subject to the following limitations: (a) Individual samples shall have not more than double a specified tolerance except that at least two defective specimens may be permitted in any sample: Provided, That no more than one specimen affected by decay be permitted in any sample, and provided further, that the averages for the entire lot are within the tolerances specified for the grades.”

Dated: April 28, 2008.
Lloyd C. Day,
Administrator, Agricultural Marketing Service.

[FR Doc. E8-9649 Filed 5-1-08; 8:45 am]

BILLING CODE 3410-02-P